DEPARTMENT OF AGRICULTURE

Forest Service

Flagtail Fire Recovery Project; Malheur National Forest, Grant County, OR

AGENCY: Forest Service, USDA.

ACTION: Notice of intent to prepare an environmental impact statement.

SUMMARY: The USDA, Forest Service will prepare an Environmental Impact Statement (EIS) on a proposal to assist the recovery of the area burned in 2002 by the Flagtail Fire. This will include proposals to salvage fire-killed and fire-damaged timber, implement reforestation, and implement projects to alleviate the potential for future damage to wildlife habitat, and aquatic resources as a result of the Flagtail Fire. The 7,250-acre project area is located on the Blue Mountain Ranger District, approximately 25 miles southwest of John Day, Oregon, within the Silvies Watershed.

DATES: Comments concerning the scope of the analysis must be received by February 28, 2003.

ADDRESSES: Send written comments to Michael Montgomery, District Ranter, Blue Mountain Ranger District, P.O. Box 909, John Day, OR 97845.

FOR FURTHER INFORMATION CONTACT: Linda Batten, Flagtail Fire Recovery Project Team Leader, Blue Mountain Ranger District. Phone: (541) 575-3000. E-mail lbatten@fs.fed.us or the Malheur National Forest website at http://www.fs.fed.us/r6/malheur.

SUPPLEMENTARY INFORMATION: In July 2002, the Flagtain Fire burned approximately 8,200 acres, of which 7,250 occur on the Malheur National Forest. The remainder of the fire includes approximately 950 acres of private land. The 7,250-acre decision area for the Flagtail Fire Recovery Project includes those portions of the Flagtail Fire that burned within the Silvies Watershed on National Forest System lands.

Purpose and Need for Action

The purposes and needs for action in the project planning area are to:

• Reduce fuel loadings,

• Reduce the risk of insect infestation in surviving stands,

• Capture economic value of the killed and damaged trees,

• Provide safe and adequate roaded access in the fire area,

• Reduce the effects of roads on wildlife and water quality,

• Re-establish upland vegetation, and

• Designate suitable dedicated and replacement old growth areas to replace those degraded by the fire.

Proposed Action

The proposed project could include the following activities:

—Salvage harvest approximately 5,200 acres, in the Silvies watershed;

—Decommission approximately 13 miles and close approximately 13 miles of road;

—Reforest areas that sustained high tree mortality with appropriate species;

—Replace Dedicated Old Growth that is now unsuitable due to the fire (resulting in a Forest Plan amendment).

About 80% of the proposed timber salvage units would be harvested using ground-based logging systems. Access for the salvage activities would require construction of less than 1 mile of road, construction of approximately 60 miles of road. The temporary roads would be decommissioned after completion of project activities. Approximately 20% of the area to be salvaged would be harvested using helicopter based logging systems. Connected actions in association with salvage include water barring and erosion control measures such as scattering of slash on skid trails and treatment of slash.

Approximately 5,200 acres would be planted with tree seedlings following site preparation. Fuels, including those created by the fire, by salvage activity, and by site preparation, would be reduced to meet the range of historic levels throughout the project area. A variety of fuel treatment methods would be used including removing marketable timber through salvage harvest, burning in place, piling and burning, and whole tree yarding.

All proposed activities are responsive to the stated purpose and need for this project.

Possible Alternatives

A full range of alternatives will be considered, including a “no action” alternative in which none of the activities proposed above would be implemented. Based on the issues gathered through scoping, the action alternatives could differ in the silvicultural and post-harvest treatments prescribed, the amount and location of harvest, or the amount and location of fuels reduction activity. Tentative alternatives to the proposed action could include an alternative that does not require the construction of additional temporary or permanent roads, other than temporary re-opening of existing roads. Another alternative could emphasize removal (or other fuels treatment options) of dead timber in the size classes most likely to reburn. Currently available science on snag and coarse woody debris dependent species habitat will be a factor in alternative development and could result in a proposal of a site-specific Forest Plan amendment to update standards and guidelines for these species. Consideration of various regeneration strategies including planting at relatively low stocking levels could also be a factor that differentiates alternatives.

Scoping Process

The public will have an opportunity to participate at several points during the analysis including the scoping period after publication of the notice of intent, and during the comment period after publication of the draft EIS. Notification of these opportunities will appear in subsequent issues of the Malheur National Forest's Schedule of Proposed Activities; letters to agencies, organizations, and individuals who have previously indicated their interest in such activities; and a legal notice in the Blue Mountain Eagle. Public meetings may be scheduled during the winter/spring of 2002-2003. The scoping process will include identifying potential issues, identifying major issues to be analyzed in depth, eliminating non-significant issues or those previously covered by a relevant environmental analysis, considering additional alternatives based on themes which will be derived from issues recognized during scoping activities, and identifying potential environmental effects of the proposed action and alternatives (i.e. direct, indirect, and cumulative effects and connected actions).

Preliminary Issues

Preliminary issues include snag and downed wood habitat; noxious weeds; effects of proposed activities on soils exposed by the fire; effects of proposed activities on the recovery of water quality and resident fisheries resource; ability of proposed activities to contribute to restoration of historic vegetation composition, structures, and patterns; potential loss of commercial timber value; and economic viability of timber salvage.

Public comments about this proposal are requested in order to assist in properly scoping issues, to determine how to best manage the resources, and to fully analyze environmental effects. Comments received to this notice, including names and addresses of those who comment, will be considered part of the public record on this proposed action and will be available for public inspection. Comments submitted anonymously will be accepted and considered; those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that under FOIA, confidentiality may be granted in only very limited circumstances, such as to protect trade secrets. The Forest Service will inform the requester of the agency's decision regarding the request for confidentiality and, where the request is denied, the agency will return the submission and notify the requester that the comments may be resubmitted with or without name and address within a specific number of days.

Early Notice of Importance of Public Participation in Subsequent Environmental Review

The comment period on the draft EIS will be 45 days from the date the Environmental Protection Agency publishes the notice of availability in the Federal Register the draft EIS is expected in May 2003 and the final EIS is expected in September 2003.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

The Forest Service is the lead agency. The Responsible Official is the Forest Supervisor, Malheur National Forest, 431 Pattern Bridge Road, John Day, Oregon 97845. The Responsible Official will decide which, if any, of the proposed projects will be implemented. The Responsible Official may also decide on site-specific Forest Plan amendments regarding standards and guidelines for snag and coarse woody debris, as well as big game habitat, if warranted by the analysis of those components in light of recent science.

The Responsible Official will document the Flagtail Fire Recovery Project decision and reasons for the decision in the Record of Decision. That decision will be subject to Forest Service Appeal Regulations (36 CFR part 215).

Dated: January 27, 2003.
Roger W. Williams,
Forest Supervisor.

[FR Doc. 03-2836 Filed 2-5-03; 8:45 am]

BILLING CODE 3410-11-M